DEPARTMENT OF JUSTICE

Antitrust Division

Notice Pursuant to the National Cooperative Research and Production Act of 1993—The National Center for Manufacturing Sciences, Inc.

Notice is hereby given that, on October 15, 2003, pursuant to Section 6(a) of the National Cooperative Research and Production Act of 1993, 15 U.S.C. 4301 et seq. (“the Act”), The National Center for Manufacturing Sciences, Inc. has filed written notifications simultaneously with the Attorney General and the Federal Trade Commission disclosing changes in its membership status. The notifications were filed for the purpose of extending the Act's provisions limiting the recovery of antitrust plaintiffs to actual damages under specified circumstances. Specifically, Anautics, Inc., Oklahoma City, OK; BCT Technology, Inc., Willstaett, GERMANY; Cohesia Corporation, Mason, OH; Collins & Aikman Corporation, Troy, MI; FIATECH, Austin, TX; Fidelis Security Systems, Inc., Bethesda, MD; Henkel Electronic, Conductive Die Attach Division, City of Industry, CA; PPG Industries, Cleveland, OH and Siemens AG, Orlando, FL have been added as parties to this venture.

The following companies have resigned or had their membership in NCMS terminated: Impact Engineering, Jackson, MI; Industrial Technology Centre, Winnipeg, Manitoba, CANADA; and Motorsoft, Lebanon, OH.

No other changes have been made in either the membership or planned activity of the group research project. Membership in this group research project remains open, and The National Center for Manufacturing Sciences, Inc. intends to file additional written notification disclosing all changes in membership.

On February 20, 1987, The National Center for Manufacturing Sciences, Inc. filed its original notification pursuant to Section 6(a) of the Act. The Department of Justice published a notice in the Federal Register pursuant to Section 6(b) of the Act on March 17, 1987 (52 FR 8375).

The last notification was filed with the Department on July 30, 2003. A notice was published in the Federal Register pursuant to Section 6(b) of the Act on August 15, 2003 (68 FR 48941).

Dorothy Fountain,
Deputy Director of Operations, Antitrust Division.

[FR Doc. 03-28246 Filed 11-10-03; 8:45 am]

BILLING CODE 4410-11-M